DEPARTMENT OF ENERGY

Federal Energy Regulatory Commission

[Docket No. CP09-22-000]

Atmos Pipeline and Storage, LLC; Notice of Availability of the Environmental Assessment for the Proposed Fort Necessity Gas Storage Project

March 4, 2009.

The staff of the Federal Energy Regulatory Commission (FERC or Commission) has prepared an environmental assessment (EA) on the natural gas pipeline facilities proposed by Atmos Pipeline and Storage, LLC (Atmos) in the above-referenced docket.

The EA was prepared to satisfy the requirements of the National Environmental Policy Act. The staff concludes that approval of the proposed project, with appropriate mitigating measures, would not constitute a major federal action significantly affecting the quality of the human environment.

The EA assesses the potential environmental effects of the construction and operation of the proposed natural gas storage and pipeline facilities including:

Storage facilities:

• Three 8.25 billion cubic feet (Bcf) salt dome storage caverns (24.75 Bcf total) with a total working capacity of 15.0 Bcf of natural gas, each with a well and well pad for solution mining and subsequent gas injection/withdrawal;

• One leaching plant with associated pumps, tanks, and piping;

• Nine water supply wells;

• Nine brine disposal wells;

• Two collocated 0.9-mile-long, 30-inch-diameter gas pipelines from the compressor station to the three cavern wells;

• 0.4 mile of 2-inch-diameter diesel injection pipeline extending from the leaching plant to the three cavern wells;

• 0.4 mile of 2-inch-diameter instrument air pipeline extending from the leaching plant to the three cavern wells;

• 1.7 miles of varying diameter high density polyethylene (HDPE) water supply pipeline extending from the water supply wells to the leaching plant;

• 0.4 mile of 20-inch-diameter steel pipeline feeding high pressure water extending from the leaching plant to the three cavern wells;

• 0.4 mile of 22-inch-diameter HDPE pipeline to return brine from the three cavern wells to the leaching plant;

• 5.5 miles of varying diameter steel brine disposal pipeline extending from the leaching plant to the brine disposal;

• Related delivery piping, line heaters, pressure vessels, and valves along with other appurtenant facilities; and

• One electrical substation consisting of two 15/20 mega volt ampere transformers.

Interconnect pipeline facilities:

• One compressor station with nine 4,700 horsepower (hp)-rated natural gas driven reciprocating compressors, totaling 42,300 hp;

• One dehydration facility;

• Four meter stations;

• Two collocated 0.01-mile-long (70-foot-long), 36-inch-diameter interconnect gas pipelines with one metering station to tie in to Tennessee Gas Pipeline's (TGP) existing 30-inch-diameter pipeline;

• Two collocated 0.8-mile-long, 36-inch-diameter interconnect gas pipelines with one metering station to tie into Columbia Gulf Transmission's (CGT) existing 30- and 36-inch-diameter pipelines, continuing northwest from the proposed TGP metering station site;

• Two collocated 6.5-mile-long 30-inch-diameter interconnect gas pipelines with two metering stations collocated within the same fenced area to tie into ANR Pipeline Company's (ANR) existing 30- and 36-inch-diameter pipelines and to the existing 30-inch-diameter Winnsboro Extension of the Regency Energy Partners' (Regency) pipeline, continuing north from the proposed CGT metering station site; and

• All related facilities.

Atmos states that the project would provide new storage. It would interconnect with the existing interstate pipelines operated by TGP, CGT, and ANR, and the intrastate pipeline operated by Regency. All proposed facilities would be constructed and operated in Franklin Parish, Louisiana. Atmos proposes beginning construction in 2009 and to have Cavern No. 1 in service by 2011, Cavern No. 2 in service by 2013, and Cavern No. 3 in service by 2015.

The EA has been placed in the public files of the FERC. A limited number of copies of the EA are available for distribution and public inspection at: Federal Energy Regulatory Commission, Public Reference Room, 888 First Street, NE., Room 2A, Washington, DC 20426, (202) 502-8371.

Copies of the EA have been mailed to federal, state, and local agencies; public interest groups; interested individuals and affected landowners; Native American tribes; newspapers and libraries; and parties to this proceeding.

Any person wishing to comment on the EA may do so. To ensure consideration prior to a Commission decision on the proposal, it is important that we receive your comments before the date specified below.

You can make a difference by providing us with your specific comments or concerns about the Fort Necessity Gas Storage Project. Your comments should focus on the potential environmental effects, reasonable alternatives, and measures to avoid or lessen environmental impacts. The more specific your comments, the more useful they will be. To ensure that your comments are timely and properly recorded, please send in your comments so that they will be received in Washington, DC on or before April 3, 2009.

For your convenience, there are three methods in which you can use to submit your comments to the Commission. In all instances please reference the project docket number CP09-22-000 with your submission. The docket number can be found on the front of this notice. The Commission encourages electronic filing of comments and has dedicated eFiling expert staff available to assist you at 202-502-8258 or efiling@ferc.gov.

(1) You may file your comments electronically by using the Quick Comment feature, which is located on the Commission's internet Web site at http://www.ferc.gov under the link to Documents and Filings. A Quick Comment is an easy method for interested persons to submit text-only comments on a project;

(2) You may file your comments electronically by using the eFiling feature, which is located on the Commission's internet Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing;” or

(3) You may file your comments via mail to the Commission by sending an original and two copies of your letter to: Kimberly D. Bose, Secretary, Federal Energy Regulatory Commission, 888 First St., NE, Room 1A, Washington, DC 20426.

Label one copy of the comments for the attention of Gas Branch 2, PJ11.2.

Comments will be considered by the Commission but will not serve to make the commentor a party to the proceeding. Any person seeking to become a party to the proceeding must file a motion to intervene pursuant to Rule 214 of the Commission's Rules of Practice and Procedures (18 CFR 385.214).¹ Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Kimberly D. Bose,
Secretary.

[FR Doc. E9-5247 Filed 3-11-09; 8:45 am]

BILLING CODE 6717-01-P